DEPARTMENT OF HOMELAND SECURITY

Transportation Security Administration

Reports, Forms, and Record Keeping Requirements: Agency Information Collection Activity Under OMB Review; Flight Crew Self-Defense Training—Registration and Evaluation

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published a Federal Register notice, with a 60-day comment period soliciting comments, of the following collection of information on February 2, 2005 (70 FR 5456).

DATES: Send your comments by May 25, 2005. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Information Collection Specialist, Office of Transportation Security Policy, TSA-9, Transportation Security Administration, 601 South 12th Street, Arlington, VA 22202-4220; telephone (571) 227-1995; facsimile (571) 227-2559.

SUPPLEMENTARY INFORMATION:

Transportation Security Administration (TSA)

Title: Flight Crew Self-Defense Training—Registration and Evaluation.

Type of Request: Extension of a currently approved collection.

OMB Control Number: 1652-0028.

Forms(s): “Level 1 End-of-Course Evaluation”; “Community College Sign-In Sheet”

Affected Public: Flight and cabin crewmembers on commercial passenger and cargo flights.

Abstract: Section 603 of Vision 100—Century of Aviation Reauthorization Act (Pub. L. 108-176) requires TSA to develop and provide a voluntary advanced self-defense training program for flight and cabin crew members of air carriers providing scheduled passenger air transportation. This collection allows TSA to collect identifying information from volunteer flight and cabin crewmembers who register for self-defense classes, and permits TSA to solicit voluntary feedback on the quality of the training.

TSA seeks renewal for this collection of information, which permits TSA to collect identifying information from flight and cabin crewmembers who register for self-defense classes, and solicits voluntary feedback from participants on the quality of the training. Identifying information is gathered from trainees who have registered for a self-defense program to confirm that they are eligible for that program (i.e., that they are an active flight or cabin crewmember for a commercial or cargo air carrier), and to confirm their attendance at the self-defense classes. The information that is collected consists of the trainee's identifying information (such as the trainee's name and employee number), the name of their employer, and contact information. TSA uses a sign-in sheet to collect this information at the beginning of the self-defense course.

After training is completed, TSA solicits written feedback from trainees by using a standard TSA training evaluation form. Completion of this form is voluntary and anonymous.

Number of Respondents: 3,000.

Estimated Annual Burden Hours: An estimated 750 hours annually.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on April 19, 2005.
Lisa S. Dean,
Privacy Officer.

[FR Doc. 05-8181 Filed 4-22-05; 8:45 am]

BILLING CODE 4910-62-P